DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0045; No Forms.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before April 13, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION: Collection of Information

Title: Inspection of Insured Structures by Communities.

Type of information collection: Revision of a currently approved collection.

OMB Number: 1660-0045.

Form Titles and Numbers: No Forms.

Abstract: The community inspection report is used for the implementation of the inspection procedures to help communities in Monroe County, the City of Marathon and the Village of Islamorada, Florida verify buildings are compliant with their floodplain management ordinance and to help FEMA ensure that policyholders are paying flood insurance premiums that are commensurate with their flood risk.

Affected Public: Individuals and Households, State, local and Tribal governments.

Estimated Number of Respondents: 833.

Frequency of Response: Once.

Estimated Average Hour Burden per Respondent: 2.25 hours.

Estimated Total Annual Burden Hours: 1,874 hours. The number of Annual Burden Hours has been increased since publication of the 60-day Federal Register Notice (see 73 FR 79139, Dec. 24, 2008).

Estimated Cost: The estimated annualized cost to respondents based on wage rate categories is $42,580.00. The estimated annualized costs to respondents based on wage rate categories has been increased since publication of the 60-day Federal Register Notice (see 73 FR 79139, Dec. 24, 2008). The estimated annual cost to the Federal Government is $10,173.

Larry Gray,
Director, Records Management Division, Office of Management, Federal Emergency Management Agency, Department of Homeland Security.

[FR Doc. E9-5500 Filed 3-12-09; 8:45 am]

BILLING CODE 9110-12-P